DEPARTMENT OF JUSTICE

28 CFR Part 0

[Docket No. OAG 113; AG Order No. 2811-2006]

Office of the Attorney General; Establishment of the Office on Violence Against Women

AGENCY: Department of Justice.

ACTION: Final rule.

SUMMARY: This rule updates the Department of Justice (DOJ) organizational regulations to reflect the establishment of the Office on Violence Against Women (OVW) as a separate and distinct office within the DOJ. OVW carries out the duties of the Department of Justice under the Violence Against Women Act of 1994 (title IV of Pub. L. 103-322) and the Violence Against Women Act of 2000 (division B of Pub. L. 104-386), and any other duties otherwise authorized by law, or assigned to it or delegated to it by the Attorney General. This rule sets forth the duties of the Director of OVW. This rule also reflects the continued applicability to OVW of the National Environmental Policy Act of 1969 (NEPA) regulations that apply to components of the Office of Justice Programs (OJP), and which were therefore previously applied to OVW when it was part of OJP.

DATES: This rule is effective April 18, 2006.

FOR FURTHER INFORMATION CONTACT: Marnie Shiels, Attorney Advisor, Office on Violence Against Women, 810 7th Street, NW., Washington, DC 20531; Telephone: (202) 307-6026; Fax: (202) 307-3911.

SUPPLEMENTARY INFORMATION: Section 402(3) of the 21st Century Department of Justice Appropriations Authorization Act (Pub. L. 107-273, Division A, Title IV, 116 Stat.1758 (Nov. 2, 2002)), provided for the establishment of OVW as a separate and distinct office within the Department of Justice, to be headed by a director, appointed by the President, by and with the advice and consent of the Senate. The Director of OVW is responsible, under the general authority of the Attorney General, for the administration, coordination, and implementation of the programs and activities of OVW. Specifically, the Director is responsible for carrying out the functions of the Department of Justice under the Violence Against Women Act of 1994 (title IV of Pub. L. 103-322) and the Violence Against Women Act of 2000 (division B of Pub. L. 104-386), and exercising such other powers and functions as may be vested in the Director pursuant to 42 U.S.C. 3796gg et seq., or by delegation of the Attorney General, 42 U.S.C. 3796gg-0-42 U.S.C. 3796gg-0b. Under the authority of the 21st Century Department of Justice Appropriations Authorization Act, the Attorney General directed the separation of OVW from OJP, its former parent organization within the Department.

Because OVW was formerly an office within OJP, regulations applicable to OJP were applicable to OVW. This rule reflects the continued applicability to OVW of certain procedures issued pursuant to the NEPA, found in 28 CFR part 61, Appendix D, which are applicable to OJP (the regulation refers to the Office of Justice Assistance, Research and Statistics, which was the predecessor to OJP), and were, therefore, applicable to OVW before it was separated from OJP. No substantive changes are being made to the regulation, and the continued applicability of the regulation to OVW will not add or remove any substantive rights or obligations of OVW grantees or cooperative agreement recipients. It is only because of the reorganization of the Department of Justice that the NEPA regulation, by its express terms, makes no reference to OVW. This rule clarifies that the NEPA regulation will continue to apply to OVW. OVW effectuates other regulatory requirements through grant conditions with which the grantees agree to comply.

Administrative Procedure Act 5 U.S.C. 553

This rule is a rule of agency organization and is therefore exempt from the notice requirement of 5 U.S.C. 553(b). This rule is effective upon publication.

Executive Order 12866

This action has been drafted and reviewed in accordance with Executive Order 12866 Regulatory Planning and Review, section 1(b), Principles of Regulation. This rule is limited to agency organization, management, and personnel as described by Executive Order 12866 section 3(d)(3) and, therefore, is not a “regulation” or “rule” as defined by that Executive Order. Accordingly, this action has not been reviewed by the Office of Management and Budget.

Executive Order 13132

This rule will not have substantial direct effects on the States, on the relationship between the national government and the States, or on the distribution of power and responsibilities among the various levels of government. Therefore, in accordance with Executive Order 13132, Federalism, the Department has determined that this rule does not have sufficient federalism implications to warrant the preparation of a federalism summary impact statement.

Executive Order 12988

This rule meets the applicable standards set forth in sections 3(a) and 3(b)(2) of Executive Order 12988, Civil Justice Reform.

Unfunded Mandates Reform Act of 1995

This rule will not result in the expenditure by State, local, and tribal governments, in the aggregate, or by the private sector, of $100 million or more in any one year, and it will not significantly or uniquely affect small governments. Therefore, no actions were deemed necessary under the provisions of the Unfunded Mandates Reform Act of 1995, 2 U.S.C. 1501 et seq.

Small Business Regulatory Enforcement Fairness Act of 1996

This rule is not a “major rule” as defined by section 251 of the Small Business Regulatory Enforcement Fairness Act of 1996, 5 U.S.C. 804. This rule will not result in an annual effect on the economy of $100 million or more; a major increase in costs or prices; or significant adverse effects on competition, employment, investment, productivity, innovation, or the ability of United States-based enterprises to compete with foreign-based enterprises in domestic and export markets.

This action pertains to agency management, personnel, and organization and does not substantially affect the rights or obligations of non-agency parties. Accordingly, it is not a “rule” for purposes of the reporting requirement of 5 U.S.C. 801.

Regulatory Flexibility Act

The Attorney General, in accordance with the Regulatory Flexibility Act (5 U.S.C. 605(b)), has reviewed this regulation and by approving it certifies that this regulation will not have a significant economic impact on a substantial number of small entities because it pertains to personnel and administrative matters affecting the Department. Further, a Regulatory Flexibility Analysis was not required to be prepared for this final rule since the Department was not required to publish a general notice of proposed rulemaking for this matter.

List of Subjects in 28 CFR Part 0

Authority delegations (government agencies), Government employees, Organization and functions (government agencies), Whistleblowing.

Accordingly, by virtue of the authority vested in me as Attorney General, including 5 U.S.C. 301, 28 U.S.C. 509 and 510, Chapter I of Title 28 of the Code of Federal Regulations is amended as follows:

PART 0—ORGANIZATION OF THE DEPARTMENT OF JUSTICE

1. The authority citation for part 0 continues to read as follows:

Authority: 5 U.S.C. 301; 28 U.S.C. 509, 510, 515-519.

§ 0.1 [Amended]

2. Revise § 0.1 by adding at the end of the list under “Offices” the title “Office on Violence Against Women.”

3. Add Subpart U-2 to Part 0, to read as follows:

Subpart U-2—Office on Violence Against Women
Sec.
0.122 Office on Violence Against Women.

§ 0.122 Office on Violence Against Women.

(a) The Director, Office on Violence Against Women, under the general authority of the Attorney General, shall:

(1) Exercise the powers and perform the duties and functions described in section 402(3) of title IV of the 21st Century Department of Justice Appropriations Authorization Act (Pub. L. 107-273); and

(2) Perform such other duties and functions relating to such duties as may be authorized by law or assigned or delegated by the Attorney General, consistent with constitutional limits on the Federal Government's authority to act in this area.

(b) Departmental regulations set forth in 28 CFR part 61, Appendix D, applicable to the Office of Justice Programs, shall apply with equal force and effect to the Office on Violence Against Women, with references to the Office of Justice Assistance, Research and Statistics, and its components, in such regulations deemed to refer to the Office on Violence Against Women, as appropriate.

Dated: April 12, 2006.
Alberto R. Gonzales,
Attorney General.

[FR Doc. 06-3673 Filed 4-17-06; 8:45 am]

BILLING CODE 4410-FX-P